DEPARTMENT OF TRANSPORTATION

Federal Aviation Administration

14 CFR Part 71

[Docket No. FAA-2003-16763; Airspace Docket No. 03-ACE-100]

Modification of Class E Airspace; Springfield, MO

AGENCY: Federal Aviation Administration (FAA), DOT.

ACTION: Direct final rule; request for comments; correction.

SUMMARY: This action corrects a direct final rule; request for comments that was published in the Federal Register on Thursday, January 15, 2004, (69 FR 2296) [FR Doc. 04-917]. It extends the comment period by thirty days.

DATES: This direct final rule is effective on 0901 UTC, April 15, 2004.

FOR FURTHER INFORMATION CONTACT: Brenda Mumper, Air Traffic Division, Airspace Branch, ACE-520A, DOT Regional Headquarters Building, Federal Aviation Administration, 901 Locust Kansas City, MO 64106; telephone: (816) 329-2524.

SUPPLEMENTARY INFORMATION:

History

Federal Register Document 04-917, published on Thursday, January 15, 2004, (69 FR 2996) modified Class E3 and Class E5 airspace areas at Springfield, MO. The modification enlarged the controlled airspace area around Springfield-Branson Regional Airport to provide proper protection of diverse departures, corrected discrepancies in the Springfield-Branson Regional Airport airport reference point, redefined the location of the Springfield collocated very high frequency omni-directional radio range and tactical air navigational aid (VORTAC) and brought the legal descriptions of Springfield, MO, Class E airspace areas into compliance with FAA Order 7400.2E, Procedures for Handling Airspace Matters. However, the published comment period closing date did not provide sufficient time for public response.

Accordingly, pursuant to the authority delegated to me, the response date to the Springfield, MO, Class E airspace areas, as published in the Federal Register on Thursday, January 15, 2004, (69 FR 2996) [FR Doc. 04-917] is corrected as follows:

On page 2296, Column 2, paragraph headed DATES, fourth line, change “January 27” to read “February 27.”

Issued in Kansas City, MO, on January 21, 2004.
Paul J. Sheridan,
Acting Manager, Air Traffic Division, Central Region.

[FR Doc. 04-2441 Filed 2-4-04; 8:45 am]

BILLING CODE 4910-13-M